DEPARTMENT OF DEFENSE

48 CFR Part 211

Defense Federal Acquisition Regulation Supplement; Technical Amendments

AGENCY: Department of Defense (DoD).

ACTION: Final rule.

SUMMARY: DoD is making technical amendments to the Defense Federal Acquisition Regulation Supplement to update the Internet address for DoD specifications and standards.

EFFECTIVE DATE: November 22, 2004.

FOR FURTHER INFORMATION CONTACT: Ms. Michele Peterson, Defense Acquisition Regulations Council, OUSD(AT&L)DPAP(DAR), IMD 3C132, 3062 Defense Pentagon, Washington, DC 20301-3062. Telephone (703) 602-0311; facsimile (703) 602-0350.

List of Subjects in 48 CFR Part 211

Government procurement.

Michele P. Peterson,
Executive Editor, Defense Acquisition Regulations Council.

Therefore, 48 CFR Part 211 is amended as follows:

1. The authority citation for 48 CFR Part 211 continues to read as follows:

Authority: 41 U.S.C. 421 and 48 CFR Chapter 1.

PART 211—DESCRIBING AGENCY NEEDS

211.201 [Amended]

2. Section 211.201 is amended in paragraph (d) introductory text by removing “http://assist.daps.mil” and adding in its place “http://assist.daps.dla.mil”.

[FR Doc. 04-25809 Filed 11-19-04; 8:45 am]

BILLING CODE 5001-08-P